DEPARTMENT OF DEFENSE

Office of the Secretary

Meeting of the Department of Defense Task Force on the Care, Management, and Transition of Recovering Wounded, Ill, and Injured Members of the Armed Forces

AGENCY: Department of Defense.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal Advisory Committee meeting of the Department of Defense Task Force on the Care, Management, and Transition of Recovering Wounded, Ill, and Injured Members of the Armed Forces (subsequently referred to as the Task Force) will take place. The purpose of the meeting is for the Task Force Members to prepare and vote on recommendations and time permitting, discuss the remaining sections of the annual report. Pursuant to 5 U.S.C. 552b and 41 CFR 102-3.140 through 102-3.165, and the availability of space, this meeting is open to the public. Seating is on a first-come basis.

DATES: Tuesday, July 26, 2011, Wednesday, July 27, 2011, Thursday, July 28, 2011 from 8 a.m. to 6 p.m.

ADDRESSES: Meeting address is Holiday Inn Hotel & Suites Alexandria—Historic District, 625 First Street, Alexandria, VA 22314. Mail Delivery service through Recovering Warrior Task Force, Hoffman Building II, 200 Stovall St., Alexandria, VA 22332-0021 “Mark as Time Sensitive for July Meeting”.

FOR FURTHER INFORMATION CONTACT: Denise F. Dailey, Designated Federal Officer, Hoffman Building II, 200 Stovall St., Alexandria, VA 22332-0021, phone: (703) 325-6640, Fax: (703) 325-6710, e-mail: rwtf@wso.whs.mil.

SUPPLEMENTARY INFORMATION: Agenda: (Please refer to http://dtf.defense.gov/rwtf/meetings.html for the most up-to-date meeting information).

Tuesday, July 26

8 a.m.—Public Forum (Open to the public)

8:30 a.m.—Review of the Draft Report (Open to the public)

10:30 a.m.—Preparatory Session Breakout Groups (Not open to the public)

12 p.m.—Break for Lunch

1 p.m.—Preparatory Session Breakout Groups (Not open to the public)

2 p.m.—Consolidated Session: Return for review of preparatory sessions' work and begin recommendation voting session. (Open to the public)

6 p.m.—Closing

Wednesday, July 27

8 a.m.—Preparatory Session Breakout Groups (Not open to the public)

10 a.m.—Consolidated Session: Return for review of preparatory sessions' work and begin recommendation voting session. (Open to the public)

12 p.m.—Break for Lunch

1 p.m.—Preparatory Session Breakout Groups (Not open to the public)

2 p.m.—Consolidated Session: Return for review of preparatory sessions' work and begin recommendation voting session (Open to the public)

6 p.m.—Closing

Thursday, July 28

8 a.m.—If voting on Task Force recommendations is complete, the Task Force will review/discuss next year's recommended installation visits and topics. If voting is not complete on recommendations, a voting session will continue throughout the day until complete. (Open to the public)

10:15 a.m.—Break

10:30 a.m.—Establish matrix breakout for each recommendation. Subject to voting session completion. (Open to the public)

12 p.m.—Break for Lunch

1 p.m.—Review best practices enclosure. Subject to voting session completion. (Open to the public)

2 p.m.—Review Executive Summary. Subject to voting session completion. (Open to the public)

3 p.m.—Review Appendices. Subject to voting session completion. (Open to the public)

5 p.m.—Closing

Pursuant to 41 CFR 102-3.105(j) and 102-3.140, and section 10(a)(3) of the Federal Advisory Committee Act of 1972, the public or interested organizations may submit written statements to the Department of Defense Task Force on the Care, Management, and Transition of Recovering Wounded, Ill, and Injured Members of the Armed Forces about its mission and functions. If individuals are interested in making an oral statement during the Public Forum time period, a written statement for a presentation of two minutes must be submitted as below and must identify it is being submitted for an oral presentation by the person making the submission. As the Members will have finished their research for this year of effort and are drafting the final report and recommendations, please focus your oral statements on the draft report and any recommendations you as a member of the public would like to see the Task Force make on behalf of Wounded Warriors and submit to rwtf@wso.whs.mil or mailing address and fax below. The Draft report will be provided on the Task Force Web site (http://dtf.defense.gov/rwtf/) by COB July 15, 2011. Identification information must be provided and at a minimum must include a name and a phone number. Determination of who will be making an oral presentation will depend on the submitted topic's relevance to the Task Force's Charter. Individuals may visit the Task Force Web site at http://dtf.defense.gov/rwtf/ to view the Charter. Individuals making presentations will be notified by Friday, July 22, 2011. Oral presentations will be permitted only on Tuesday, July 26, 2011 from 8 to 8:30 a.m. before the full Task Force. Number of oral presentations will not exceed ten, with one minute of questions available to the Task Force members per presenter. Presenters should not exceed their two minutes. Written statements which the author does not wish to present orally may be submitted at any time or in response to the stated agenda of a planned meeting of the Department of Defense Task Force on the Care, Management, and Transition of Recovering Wounded, Ill, and Injured Members of the Armed Forces.

All written statements shall be submitted to the Designated Federal Officer for the Task Force through the above contact information, and this individual will ensure that the written statements are provided to the membership for their consideration.

Statements being submitted in response to the agenda mentioned in this notice must be received by the Designated Federal Officer at the address listed no later than 5 p.m. Eastern Daylight Time (EDT), Wednesday, July 20, 2011 which is the subject of this notice. Written statements received after this date may not be provided to or considered by the Task Force until its next meeting. Please mark mail correspondence as “Time Sensitive for July Meeting.” The Designated Federal Officer will review all timely submissions with the Task Force Co-Chairs and ensure they are provided to all members of the Task Force before the meeting that is the subject of this notice.

Reasonable accommodations will be made for those individuals with disabilities who request them. Requests for additional services should be directed to Heather Jane Moore, (703) 325-6640, by 5 p.m. (EDT), Wednesday, July 20, 2011.

Dated: June 20, 2011.
Aaron Siegel,
Alternate OSD Federal Register Liaison Officer, Department of Defense.

[FR Doc. 2011-16304 Filed 6-28-11; 8:45 am]

BILLING CODE 5001-06-P